DEPARTMENT OF ENERGY

Federal Energy Regulatory Commission

Combined Notice of Filings #1

Take notice that the Commission received the following electric rate filings:

Docket Numbers: ER14-83-001.

Applicants: Midcontinent Independent System Operator, Inc.

Description: 2014-01-09_ER14-83-000_Module E-1 RAR Compliance to be effective 12/13/2013.

Filed Date: 1/9/14.

Accession Number: 20140109-5065.

Comments Due: 5 p.m. ET 1/30/14.

Docket Numbers: ER14-268-001.

Applicants: Alabama Power Company.

Description: Attachment N Filing in Compliance with FERC Order to be effective 1/1/2014.

Filed Date: 1/10/14.

Accession Number: 20140110-5059.

Comments Due: 5 p.m. ET 1/31/14.

Docket Numbers: ER14-421-001.

Applicants: Midcontinent Independent System Operator, Inc.

Description: 2014-01-10_ER14-421-000_Re-collation Clean-up Filing to be effective 11/19/2013.

Filed Date: 1/10/14.

Accession Number: 20140110-5039.

Comments Due: 5 p.m. ET 1/31/14.

Docket Numbers: ER14-482-001.

Applicants: DTE Electric Company.

Description: Amendment to Rate Schedule 41 to be effective 1/1/2014.

Filed Date: 1/10/14.

Accession Number: 20140110-5025.

Comments Due: 5 p.m. ET 1/17/14.

Docket Numbers: ER14-506-000.

Applicants: Biofuels Washington LLC.

Description: BioFuels Washington, LLC submits supplement to the December 2, 2013 filing.

Filed Date: 1/10/14.

Accession Number: 20140110-5075.

Comments Due: 5 p.m. ET 1/31/14.

Docket Numbers: ER14-967-000.

Applicants: Flat Ridge Wind Energy, LLC.

Description: Revised Market-Based Rate Tariff to be effective 3/11/2014.

Filed Date: 1/9/14.

Accession Number: 20140109-5063.

Comments Due: 5 p.m. ET 1/30/14.

Docket Numbers: ER14-968-000.

Applicants: Flat Ridge 2 Wind Energy LLC.

Description: Revised Market-Based Rate Tariff to be effective 3/11/2014.

Filed Date: 1/9/14.

Accession Number: 20140109-5064.

Comments Due: 5 p.m. ET 1/30/14.

Docket Numbers: ER14-969-000.

Applicants: Deseret Generation & Transmission Co-operative, Inc.

Description: Garkane Member Discount Filing to be effective 12/31/2013.

Filed Date: 1/10/14.

Accession Number: 20140110-5053.

Comments Due: 5 p.m. ET 1/31/14.

Docket Numbers: ER14-970-000.

Applicants: ISO New England Inc., New England Power Pool Participants Committee.

Description: Pipeline Information-Sharing Changes to be effective 1/11/2014.

Filed Date: 1/10/14.

Accession Number: 20140110-5068.

Comments Due: 5 p.m. ET 1/31/14.

Docket Numbers: ER14-971-000.

Applicants: California Independent System Operator Corporation.

Description: 2010-01-10 Tariff Waiver—Pay for Performance to be effective N/A.

Filed Date: 1/10/14.

Accession Number: 20140110-5071.

Comments Due: 5 p.m. ET 1/31/14.

Docket Numbers: ER14-972-000.

Applicants: PJM Interconnection, L.L.C.

Description: Amendments to Schedule 12-Appendix A re RTEP approved by PJM Board 12/11/2013 to be effective 4/10/2014.

Filed Date: 1/10/14.

Accession Number: 20140110-5104.

Comments Due: 5 p.m. ET 1/31/14.

Docket Numbers: ER14-973-000.

Applicants: Northern Indiana Public Service Company.

Description: Filing of an Amendment to Transmission Upgrade Agreement to be effective 3/12/2013.

Filed Date: 1/10/14.

Accession Number: 20140110-5111.

Comments Due: 5 p.m. ET 1/31/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2014.
Nathaniel J. Davis, Sr.,
Deputy Secretary.

[FR Doc. 2014-00938 Filed 1-17-14; 8:45 am]

BILLING CODE 6717-01-P